INTERNATIONAL TRADE COMMISSION

[Investigation No. 337-TA-1214]

Certain Height-Adjustable Desk Platforms and Components Thereof; Institution of Investigation

AGENCY: International Trade Commission.

ACTION: Notice.

SUMMARY: Notice is hereby given that a complaint was filed with the U.S. International Trade Commission on July 20, 2020, under section 337 of the Tariff Act of 1930, as amended, on behalf of Versa Products Inc. of Los Angeles, California. Supplements to the complaint were filed on July 22, July 31, and August 7, 2020. The complaint, as supplemented, alleges violations of section 337 based upon the importation into the United States, the sale for importation, and the sale within the United States after importation of certain height-adjustable desk platforms and components thereof by reason of infringement of certain claims of U.S. Patent No. 10,485,336 (“the '336 Patent”). The complaint further alleges that an industry in the United States exists as required by the applicable Federal Statute. The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in § 210.10 of the Commission's Rules of Practice and Procedure, 19 CFR 210.10 (2020).

Scope of Investigation: Having considered the complaint, the U.S. International Trade Commission, on August 17, 2020, Ordered That—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-4 of the '336 Patent, and whether an industry in the United States exists as required by subsection (a)(2) of section 337;

(2) Pursuant to § 210.10(b)(1) of the Commission's Rules of Practice and Procedure, 19 CFR 210.10(b)(1), the plain language description of the accused products or category of accused products, which defines the scope of the investigation, is “desk platform that sits on an existing desk or work surface and can be adjusted to different heights using an electric mechanism”;

(3) For the purpose of the investigation so instituted, the following are hereby named as parties upon which this notice of investigation shall be served:

(a) The complainant is:

Versa Products Inc., 14105 Avalon Blvd., Los Angeles, CA 90061-2637

(b) The respondents are the following entities alleged to be in violation of section 337, and are the parties upon which the complaint is to be served:

Varidesk LLC, 1221 Belt Line Rd. #500, Coppell, TX 75019

CKNAPP Sales, Inc., 195 E. Martin Dr., Goodfield, IL 61742

Loctek, Inc., 6475 Las Positas Rd., Livermore, CA 94551

Loctek Ergonomic Technology Corporation No. 588, Qihang South Road, Yinzhou Economic Development Zone, Zhanqi Town, Yinzhou District, Ningbo City, Zhejiang Province, China 315191

Zhejiang Loctek Smart Drive Technology Co., Ltd., Science & Technology Zone, Jiangshan Town, Yinzhou District, Ningbo City, Zhejiang Province, China 315191

Amazon Import Inc., 9910 Baldwin Place, El Monte, CA 91731

Stand Steady Company, LLC, 5724 Highway 280 East, Birmingham, AL 35242

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with § 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: August 18, 2020.
Lisa Barton,
Secretary to the Commission.

[FR Doc. 2020-18388 Filed 8-21-20; 8:45 am]

BILLING CODE 7020-02-P